INTERNATIONAL TRADE COMMISSION

[Investigation No. 731-TA-1123 (Third Review)]

Steel Wire Garment Hangers From China

Determination

On the basis of the record ¹ developed in the subject five-year review, the United States International Trade Commission (“Commission”) determines, pursuant to the Tariff Act of 1930 (“the Act”), that revocation of the antidumping duty order on steel wire garment hangers from China would be likely to lead to continuation or recurrence of material injury to an industry in the United States within a reasonably foreseeable time.²

¹ The record is defined in § 207.2(f) of the Commission's Rules of Practice and Procedure (19 CFR 207.2(f)).

² Commissioner Schmidtlein not participating.

Background

The Commission instituted this review on July 1, 2024 (89 FR 54519) and determined on October 4, 2024, that it would conduct an expedited review (89 FR 89040, November 12, 2024).

The Commission made this determination pursuant to section 751(c) of the Act (19 U.S.C. 1675(c)). It completed and filed its determination in this review on January 27, 2025. The views of the Commission are contained in USITC Publication 5580 (January 2025), entitled Steel Wire Garment Hangers from China: Investigation No. 731-TA-1123 (Third Review).

By order of the Commission.
Issued: January 28, 2025.
Lisa Barton,
Secretary to the Commission.

[FR Doc. 2025-02050 Filed 1-30-25; 8:45 am]

BILLING CODE 7020-02-P